DEPARTMENT OF THE INTERIOR

Bureau of Land Management

[LLWYD01000.L13110000.EJ0000.LXSI016K0000]

Notice of Meeting of the Pinedale Anticline Working Group

AGENCY: Bureau of Land Management, Interior.

ACTION: Notice of public meeting.

SUMMARY: The U.S. Department of the Interior, Bureau of Land Management (BLM) Pinedale Anticline Working Group (PAWG) will meet in Pinedale, Wyoming. All PAWG meetings are open to the public.

DATES: October 25, 2012 beginning at 9 a.m. MST.

ADDRESSES: BLM Pinedale Field Office, 1625 West Pine Street, Pinedale, Wyoming.

FOR FURTHER INFORMATION CONTACT: Shelley Gregory, BLM Pinedale Field Office, 1625 West Pine Street, PO Box 768, Pinedale WY 82941; 307-315-0612; ssgregory@blm.gov.

Persons who use a telecommunications device for the deaf (TDD), may call the Federal Information Relay Service (FIRS) at 1-800-877-8339 to contact the above individual during normal business hours. The FIRS is available 24 hours a day, 7 days a week, to leave a message or question with the above individual. You will receive a reply during normal business hours.

SUPPLEMENTARY INFORMATION: The PAWG is a Federal Advisory Committee Act (1972) chartered group established in accordance with the Federal Land Policy and Management Act (1976) by the Environmental Impact Statement (EIS) Record of Decision (ROD) for the PAPA on July 27, 2000 and carried forward with the release of the PAPA Supplemental EIS ROD on September 12, 2008.

The PAWG develops recommendations and provides advice to the BLM on mitigation, monitoring, and adaptive management issues as oil and gas development in the PAPA proceeds.

Additional information about the PAWG may be found at: www.blm.gov/wy/st/en/field_offices/pinedale/pawg.html.

Authority: 43 CFR 1784.6-1(c).

Brenda V. Neuman,
Acting State Director.

[FR Doc. 2012-23053 Filed 9-21-12; 8:45 am]

BILLING CODE 4310-22-P